DEPARTMENT OF THE INTERIOR

Bureau of Land Management

[LLWO600000.L18200000.XP0000]

Renewal of Approved Information Collection; OMB Control No. 1004-0204

AGENCY: Bureau of Land Management, Interior.

ACTION: 30-Day Notice and request for comments.

SUMMARY: The Bureau of Land Management (BLM) has submitted an information collection request to the Office of Management and Budget (OMB) to continue the collection of information from applicants for Resource Advisory Councils. The Office of Management and Budget (OMB) has assigned control number 1004-0204 to this information collection.

DATES: The OMB is required to respond to this information collection request within 60 days but may respond after 30 days. For maximum consideration, written comments should be received on or before November 6, 2015.

ADDRESSES: Please submit comments directly to the Desk Officer for the Department of the Interior (OMB #1004-0204), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0204” regardless of the form of your comments.

FOR FURTHER INFORMATION CONTACT: Mark Purdy at 202-912-7635. Persons who use a telecommunication device for the deaf may call the Federal Information Relay Service at 1-800-877-8339, to leave a message for Mr. Purdy. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on July 13, 2015 (80 FR 40084). The comment period closed on September 11, 2015. The BLM received no comments in response to the notice. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0204 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Bureau of Land Management Resource Advisory Council Application (43 CFR Subpart 1784).

OMB Control Number: 1004-0204.

Summary: This control number includes only one information collection activity. In an application form, the BLM seeks to collect information to determine education, training, and experience related to possible service on advisory committees established under the authority of Section 309 of the Federal Land Policy and Management Act (43 U.S.C. 1739), the Federal Advisory Committee Act, 5 U.S.C. App. 2, and 43 CFR Subpart 1784. The BLM refers to such advisory committees as “Resource Advisory Councils” (RACs). The information that the BLM collects is necessary to ensure that each RAC is structured to provide fair membership balance, as prescribed by each RAC's charter.

Frequency of Collection: On occasion.

Forms: Form 1120-19, Bureau of Land Management Resource Advisory Council Application.

Estimated Number and Description of Respondents: 200 applicants annually for possible service on RACs.

Estimated Annual Responses: 200.

Estimated Annual Burden Hours: 800.

Estimated Annual Non-Hour Costs: None.

Jean Sonneman
Information Collection Clearance Officer, Bureau of Land Management.

[FR Doc. 2015-25550 Filed 10-6-15; 8:45 am]

BILLING CODE 4310-84-P